NUCLEAR REGULATORY COMMISSION

[Docket No. 50-244]

Rochester Gas and Electric Corporation; R.E. Ginna Nuclear Power Plant; Notice of Availability of the Final Supplement 14 to the Generic Environmental Impact Statement Regarding License Renewal for the R.E. Ginna Nuclear Power Plant

Notice is hereby given that the U.S. Nuclear Regulatory Commission (the Commission) has published a final plant-specific supplement to the “Generic Environmental Impact Statement (GEIS)”, NUREG-1437, regarding the renewal of operating license DPR-18 for R.E. Ginna Nuclear Power Plant (Ginna), for an additional 20 years of operation. Ginna is owned by Rochester Gas and Electric Corporation (RG & E), and is located in Wayne County, New York, approximately 20 miles east of Rochester, New York. Possible alternatives to the proposed action (license renewal) include no action and reasonable alternative methods of power generation.

It is stated in Section 9.3 of the report: based on (1) the analysis and findings in the GEIS (NRC 1996; 1999); (2) the Ginna ER [Environmental Report] (RG & E 2002b); (3) consultation with other Federal, State, and local agencies; (4) the staff's own independent review; and (5) the staff's consideration of the public comments received, the recommendation of the staff is that the Commission determine that the adverse environmental impacts of license renewal for Ginna, including cumulative impacts, are not so great that preserving the option of license renewal for energy-planning decisionmakers would be unreasonable.

The final Supplement 14 to the GEIS is available for public inspection in the NRC Public Document Room (PDR) located at One White Flint North, 11555 Rockville Pike (first floor), Rockville, Maryland, or from the Publicly Available Records (PARS) component of NRC's Agencywide Documents Access and Management System (ADAMS). ADAMS is accessible from the NRC Web site at http://www.nrc.gov (the Public Electronic Reading Room). Persons who do not have access to ADAMS, or who encounter problems in accessing the documents located in ADAMS, should contact the PDR reference staff at 1-800-397-4209, 301-415-4737, or by e-mail to pdr@nrc.gov. The final supplement to the GEIS is also available for public inspection at the Ontario Public Library, located at 1850 Ridge Road, Ontario, New York, and the Rochester Public Library, located at 115 South Avenue, Rochester, New York.

FOR FURTHER INFORMATION CONTACT: Mr. Robert Schaaf, License Renewal and Environmental Impacts Program, Division of Regulatory Improvement Programs, U.S. Nuclear Regulatory Commission, Washington, DC 20555. Mr. Schaaf may be contacted at (301) 415-1312 or RGS@nrc.gov.

Dated at Rockville, Maryland, this 22nd day of January, 2004.
For the Nuclear Regulatory Commission.
Pao Tsin Kuo,
Program Director, License Renewal and Environmental Impacts Program, Division of Regulatory Improvement Programs, Office of Nuclear Reactor Regulation.

[FR Doc. E4-169 Filed 2-2-04; 8:45 am]

BILLING CODE 7590-01-P